DEPARTMENT OF STATE

[Public Notice 3735]

Notice of Proposal To Extend Agreement With Canada

AGENCY: Department of State.

ACTION: Notice.

Pursuant to the authority vested in me under Department of State Delegation of Authority 234, October 1, 1999, and Delegation of Authority 1-242, January 22, 2001, and pursuant to 19 U.S.C. 2602(f)(1), I hereby propose extension of the Agreement between the Government of the United States and the Government of Canada Concerning the Imposition of Import Restrictions on Certain Categories of Archaeological and Ethnological Material, signed April 10, 1997. Pursuant to 19 U.S.C. 2602(f)(2), the views and recommendations of the Cultural Property Advisory Committee will be requested.

A copy of this Agreement, the designated list of restricted categories of material, and related information is at http://exchanges.state.gov/education/culprop.

Dated: August 1, 2001.
Richard Boucher,
Assistant Secretary for Public Affairs, Department of State.

[FR Doc. 01-19775 Filed 8-6-01; 8:45 am]

BILLING CODE 4710-11-P